DEPARTMENT OF COMMERCE

National Institute of Standards and Technology

The 89th Interim Meeting of the National Conference on Weights and Measures

AGENCY: National Institute of Standards and Technology, Commerce.

ACTION: Announcement of public meeting of the National Conference on Weights and Measures.

SUMMARY: Notice is hereby given that the interim meeting of the National Conference on Weights and Measures will be held January 25 through January 28, 2004, at the Hyatt Regency Bethesda, Bethesda, Maryland. This meeting is open to the public. The National Conference on Weights and Measures is an organization of weights and measures enforcement officials of the States, counties, and cities of the United States, and private sector representatives. The interim meeting of the Conference brings together enforcement officials, other government officials, and representatives of business, industry, trade associations, and consumer organizations to discuss subjects that related to the field of weights and measures technology and administration. Pursuant to (15 U.S.C. 272(b)(6)), the National Institute of Standards and Technology supports the National Conference on Weights and Measures in order to promote uniformity among the States in the complexity of laws, regulations, methods, and testing equipment that comprises regulatory control by the States of commercial weighing and measuring.

DATES: January 25-28, 2004.

ADDRESSES: Hyatt Regency Bethesda, Bethesda, Maryland.

FOR FURTHER INFORMATION CONTACT: Henry V. Oppermann, Chief, NIST, Weights and Measures Division, 100 Bureau Drive, Stop 2600, Gaithersburg, MD 20899-2600. Telephone (301) 975-4004, or e-mail: owm@nist.gov.

Dated: December 23, 2003.
Hratch G. Semerjian,
Acting Deputy Director.

[FR Doc. 04-10 Filed 1-2-04; 8:45 am]

BILLING CODE 3510-13-P